Title 3—

The President

Proclamation 7980 of February 6, 2006

Death of Coretta Scott King

By the President of the United States of America

A Proclamation

As a mark of respect for the memory of Coretta Scott King, I hereby order, by the authority vested in me by the Constitution and laws of the United States of America, that on February 7, 2006, the day of her interment, the flag of the United States shall be flown at half-staff at the White House and upon all public buildings and grounds, at all military posts and naval stations, and on all naval vessels of the Federal Government in the District of Columbia and throughout the United States and its Territories and possessions until sunset on such day. I also direct that the flag shall be flown at half-staff for the same period at all United States embassies, legations, consular offices, and other facilities abroad, including all military facilities and naval vessels and stations.

IN WITNESS WHEREOF, I have hereunto set my hand this sixth day of February, in the year of our Lord two thousand six, and of the Independence of the United States of America the two hundred and thirtieth.

B

[FR Doc. 06-1256

Filed 2-8-06; 8:45 am]

Billing code 3195-01-P